DEPARTMENT OF ENERGY

Agency Information Collection Extension

AGENCY: Department of Energy.

ACTION: Notice of request for comments.

SUMMARY: The Department of Energy (DOE) invites public comment on a proposed collection of information that DOE is developing for submission to the Office of Management and Budget (OMB) pursuant to the Paperwork Reduction Act of 1995.

DATES: Comments regarding this proposed information collection must be received on or before April 20, 2023. If you anticipate that you will be submitting comments but find it difficult to do so within the period of time allowed by this notice, please advise the DOE Desk Officer at OMB of your intention to make a submission as soon as possible. The Desk Officer may be telephoned at (202) 395-8585.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Baldev Dhillon, EHSS-74, (301) 903-0990, Baldev.Dhillon@hq.doe.gov.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-1800.

(2) Information Collection Request Titled: Security Information Collections.

(3) Type of Review: Renewal.

(4) Purpose: The purpose of this collection is to protect national security and other critical assets entrusted to the Department. Information collected is for (1) foreign ownership, control or influence data from bidders on DOE contracts requiring personnel security clearances; and (2) individuals in the process of applying for a security clearance/access authorization or who already holds one. The collections instruments are: DOE Form 5631.18, Security Acknowledgement; DOE Form 5631.20, Request for Visitor Access Approval; DOE Form 5631.29, Security Termination Statement; DOE F 5631.34, Data Report on Spouse/Cohabitant; DOE Form 5631.5, The Conduct of Personnel Security Interviews; DOE Form 5639.3 Report of Security Incident/Infraction; DOE F 471.1, Security Incident Notification Report; DOE Form 472.3 Foreign Citizenship Acknowledgement; DOE Form 473.2, Security Badge Request; DOE Form 473.3, U.S. Department of Energy Clearance Access Request; Influence (e-FOCI) System (SF-328 used for entry); DOE Form 272.2, U.S. Department of Energy Personnel Security Information Reporting Form (DOE F 272.2) and the Foreign Access Central Tracking System (FACTS).

(5) Annual Estimated Number of Respondents: 100,661.

(6) Annual Estimated Number of Total Responses: 109,621.

(7) Annual Estimated Number of Burden Hours: 25,751.

(8) Annual Estimated Reporting and Recordkeeping Cost Burden: $2,317,590.

Statutory Authority: Section 641 of the Department of Energy Organization Act, codified at 42 U.S.C. 7251, and the following additional authorities:

DOE Form 5631.34, Data Report on Spouse/Cohabitant: Section 145(b) of the Atomic Energy Act of 1954, as amended, codified at 42 U.S.C. 2165; Executive Order 12968 (August 2, 1995); Executive Order 10865 (February 20, 1960); Executive Order 10450 (April 27, 1953); DOE Order 472.2 (July 21, 2011).

Security Incident Notification Report and Report of Preliminary Security Incident/Infraction (DOE Form 471.1 and DOE Form 5639.3): Executive Order 13526 (December 29, 2009); 32 CFR part 2001; DOE Order 470.4B (July 21, 2011).

DOE Form 5631.20, Request for Visitor Access Approval: Section 145(b) of the Atomic Energy Act of 1954, as amended, codified at 42 U.S.C. 2165.

DOE Form 5631.18, Security Acknowledgement: Section 145(b) of the Atomic Energy Act of 1954, as amended, codified at 42 U.S.C. 2165; Executive Order 13526 (December 29, 2009); Executive Order 10865 (Feb. 20, 1960); Executive Order 10450 (April 27, 1953); DOE Order 5631.2C (February 17, 1994).

DOE Form 5631.29, Security Termination Statement: Section 145(b) of the Atomic Energy Act of 1954, as amended, codified at 42 U.S.C. 2165; Executive Order 13526 (December 29, 2009); Executive Order 10865 (Feb. 20, 1960); Executive Order 10450 (Apr. 27, 1953); 32 CFR part 2001; DOE O 472.2 (July 21, 2011).

DOE Form 5631.5, The Conduct of Personnel Security Interviews: 10 CFR part 710; Executive Order 12968 (Aug. 2, 1995); Executive Order 10450 (April 27, 1953); DOE Order 472.2 (July 21, 2011).

DOE Form 473.3, U.S. Department of Energy Clearance Access Request; DOE Form 471.1, Security Incident Notification Report; DOE Form 472.3 Foreign Citizenship Acknowledgement; and DOE Form 473.2, Security Badge Request; the Atomic Energy Act of 1954, as amended, and by Executive Orders 13764, 10865, and 13526.

Electronic Foreign Ownership, Control or Influence (e-FOCI) System: Executive Order 12829 (January 6, 1993); DOE Order 470.4B (July 21, 2011).

Foreign Access Central Tracking System (FACTS): Presidential Decision Directive 61 (February 1999); DOE Order 142.3A (October 14, 2010).

Signing Authority

This document of the Department of Energy was signed on March 15, 2023, by Todd N. Lapointe, Director, Office of Environment Health, Safety and Security, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 16, 2023.
Treena V. Garrett,
Federal Register Liaison Officer, U.S. Department of Energy.

[FR Doc. 2023-05735 Filed 3-20-23; 8:45 am]

BILLING CODE 6450-01-P